DEPARTMENT OF DEFENSE

Department of the Army; Corps of Engineers

Notice of Availability of Draft Environmental Impact Statement for the Floyd County, KY (Levisa Fork Basin), Section 202 Project

AGENCY: Department of the Army, U.S. Army Corps of Engineers, DoD.

ACTION: Notice; extension of comment period.

SUMMARY: The comment period for the Draft Environmental Impact Statement for the Floyd County, KY (Levisa Fork Basin), Section 202 Project published in the Federal Register on Friday, May 5, 2006 (71 FR 26478), required comments be submitted 45 days (June 19, 2006) following publication in the Federal Register. The comment period was extended to 60 days (July 5, 2006) in the Federal Register on Tuesday, June 13, 2006 (71 FR 34077). The comment period has now been extended to 100 days (August 14, 2006).

FOR FURTHER INFORMATION CONTACT: Stephen O'Leary, Telephone (304) 399-5841.

Brenda S. Bowen,
Army Federal Register Liaison Officer.

[FR Doc. 06-6138 Filed 7-11-06; 8:45 am]

BILLING CODE 3710-GM-M